DEPARTMENT OF DEFENSE

Office of the Secretary

[Docket ID: DoD-2024-HA-0051]

Proposed Collection; Comment Request

AGENCY: The Office of the Assistant Secretary of Defense for Health Affairs (OASD(HA)), Department of Defense (DoD).

ACTION: 60-Day information collection notice.

SUMMARY: In compliance with the Paperwork Reduction Act of 1995, the Defense Health Agency announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by July 16, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Defense Health Agency, 7700 Arlington Blvd., Falls Church, VA 22042, ATTN: Amanda Grifka, 703-681-1771.

SUPPLEMENTARY INFORMATION:

Title; Associated Form; and OMB Number: COVID-19 Vaccine Screening and Immunization Documentation; DHA Form 207; OMB Control Number 0720-0068.

Needs and Uses: The Defense Health Agency (DHA) created the DHA Form 207, “COVID-19 Vaccine Screening and Immunization Documentation,” to determine if the COVID-19 vaccine can be administered to a patient. The DHA Form 207 is used to determine and document patient eligibility and vaccine declinations for a COVID-19 vaccination. Respondents include Active Duty military members, Federal employees, beneficiaries, and contractors (based on their employment) who wish to receive the vaccine. On 2 November 2021, the Centers for Disease Control Advisory Committee on Immunization Practices approved the clinical recommendations for the use of select COVID-19 vaccines for pediatrics ages 5-11 years. The DHA Form 236 is used to determine pediatric patient clinical eligibility for receipt of a COVID-19 vaccination. Respondents are DoD beneficiaries parents or guardians of children receiving a vaccination. The process for completing this form is the identical to the DHA Form 207.

Affected Public: Individuals or households.

Annual Burden Hours: 2,600.

Number of Respondents: 78,000.

Responses per Respondent: 1.

Annual Responses: 78,000

Average Burden per Response: 2 minutes.

Frequency: As needed, during COVID season Aug-May seasonally.

Dated: May 13, 2024.
Aaron T. Siegel,
Alternate OSD Federal Register Liaison Officer, Department of Defense.

[FR Doc. 2024-10915 Filed 5-16-24; 8:45 am]

BILLING CODE 6001-FR-P